DEPARTMENT OF ENERGY

Federal Energy Regulatory Commission

[Docket No. RP02-175-000]

Reliant Energy Gas Transmission Company; Notice of Proposed Changes in FERC Gas Tariff

March 7, 2002.

Take notice that on March 1, 2002, Reliant Energy Gas Transmission Company (REGT) tendered for filing as part of its FERC Gas Tariff, Fifth Revised Volume No. 1, the following revised tariff sheets to be effective April 1, 2002:

Eighth Revised Sheet No. 5

Eighth Revised Sheet No. 6

Ninth Revised Sheet No. 7

REGT states that the revised tariff sheets are being filed in accordance with the Stipulation and Agreement (Settlement) approved by the Commission on March 31, 1992 in Docket No. RP91-49-004 and Section 18 of the General Terms and Conditions of REGT's Tariff, which govern REGT's recovery of certain contract settlement costs (“CSC”) relating to the buyout or buydown of certain take-or-pay gas supply contracts. The Settlement and Tariff Section 18 provide for annual filings by REGT over a ten-year period to address REGT's CSC recovery through surcharges and other procedures. REGT states that because the final recovery period will end March 31, 2002, the instant filing reflects removal of the CSC surcharges from its transportation rates.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-5993 Filed 3-12-02; 8:45 am]

BILLING CODE 6717-01-P